FEDERAL ELECTION COMMISSION

Sunshine Act Meetings

Federal Register CITATION NOTICE OF PREVIOUS ANNOUNCEMENT: 89 FR 20205.

PREVIOUSLY ANNOUNCED TIME AND DATE OF THE MEETING: Tuesday, March 26, 2024 at 10:00 a.m. and its continuation at the conclusion of the open meeting on March 27, 2024.

ADDITIONAL INFORMATION:

This meeting will be cancelled if the Commission is not open due to a funding lapse.

* * * * *

CONTACT FOR MORE INFORMATION: Judith Ingram, Press Officer, Telephone: (202) 694-1220.

(Authority: Government in the Sunshine Act, 5 U.S.C. 552b)

Submitted: March 21, 2024.
Laura E. Sinram,
Secretary and Clerk of the Commission.

[FR Doc. 2024-06396 Filed 3-21-24; 4:15 pm]

BILLING CODE 6715-01-P